SECURITIES AND EXCHANGE COMMISSION

Sunshine Act Meeting

Federal Register Citation of Previous Announcement: [67 FR 57255, September 9, 2002].

Status: Closed Meeting.

Place: 450 Fifth Street, NW., Washington, DC.

Date and Time of Previously Announced Meeting: Tuesday, September 10, 2002, at 10 a.m.

Change in the Meeting: Additional Item.

The following item was added to the Closed Meeting scheduled for Tuesday, September 10, 2002 at 10 a.m.

Formal Order of Investigation.

Commissioner Goldschmid, as duty officer, determined that Commission business required the above change and that no earlier notice thereof was possible.

At times, changes in Commission priorities require alterations in the scheduling of meeting items. For further information and to ascertain what, if any, matters have been added, deleted or postponed, please contact: The Office of the Secretary at (202) 942-7070.

Dated: September 10, 2002.
Margaret H. McFarland,
Deputy Secretary.

[FR Doc. 02-23436 Filed 9-11-02; 9:36 am]

BILLING CODE 8010-01-P